DEPARTMENT OF COMMERCE

National Oceanic and Atmospheric Administration

[RTID 0648-XB724]

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet via webconference January 31, 2022 through February 11, 2022.

DATES: The Council's Scientific and Statistical Committee (SSC) will begin at 8 a.m. on Monday, January 31, 2022 and continue through Friday, February 4, 2022. The Council's Advisory Panel (AP) will begin at 8 a.m. on Tuesday, February 1, 2022 and continue through Friday, February 4, 2022. The Council will begin at 8 a.m. on Monday, February 7, 2022 and continue through Friday, February 11, 2022. All times listed are Alaska Standard Time.

ADDRESSES: The meetings will be by webconference. Join online through the links at https://www.npfmc.org/upcoming-council-meetings.

Council address: North Pacific Fishery Management Council, 1007 W 3rd Ave., Anchorage, AK 99501-2252; telephone: (907) 271-2809.

Instructions for attending the meeting via webconference are given under Connection Information, below.

FOR FURTHER INFORMATION CONTACT: Diana Evans, Council staff; telephone: (907) 271-2809; email: diana.evans@noaa.gov. For technical support please contact our administrative staff; email: npfmc.admin@noaa.gov.

SUPPLEMENTARY INFORMATION:

Agenda

Monday, January 31, 2022 Through Friday, February 4, 2022

The SSC agenda will include the following issues:

1. Economic Data Report (EDR) amendments—Final Action

2. BSAI Crab—Harvest Specifications/SAFE report for NSRKC, Crab Plan Team report, Crab modeling workshop report

3. Snow crab rebuilding plan—adopt alternatives

4. Allocation Review of Halibut Catch Share Plan for Areas 2C/3A

5. Trawl EM—preliminary review of sampling issues

6. EFH distribution, fishing effects models—review

7. Marine mammal status update—review

8. Economic SAFE report—review

The agenda is subject to change, and the latest version will be posted at https://meetings.npfmc.org/Meeting/Details/2754 prior to the meeting, along with meeting materials.

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

Tuesday, February 1, 2022 Through Friday, February 4, 2022

The Advisory Panel agenda will include the following issues:

1. Economic Data Report (EDR) amendments—Final Action

2. BSAI Crab—Harvest Specifications/SAFE report for NSRKC, Crab Plan Team report, Crab modeling workshop report

3. Snow crab rebuilding plan—adopt alternatives

4. Allocation Review of Halibut Catch Share Plan for Areas 2C/3

5. Greenland turbot with longline pots—discussion paper

6. Groundfish management policy—review (T)

7. Staff Tasking

Monday, February 7, 2022 Through Friday, February 11, 2022

The Council agenda will include the following issues. The Council may take appropriate action on any of the issues identified.

1. All B Reports (Executive Director, NMFS Management, NOAA GC, ADF&G, USCG, USFWS, IPHC report (T))

2. SSC Report in full

3. Economic Data Report (EDR) amendments—Final Action

4. BSAI Crab—Harvest Specifications/SAFE report for NSRKC, Crab Plan Team report, Crab modeling workshop report

5. Snow crab rebuilding plan—adopt alternatives

6. Allocation Review of Halibut Catch Share Plan for Areas 2C/3

7. Greenland turbot with longline pots—discussion paper

8. Groundfish management policy—review (T)

9. Staff Tasking

Connection Information

You can attend the meeting online using a computer, tablet, or smart phone; or by phone only. Connection information will be posted online at: https://www.npfmc.org/upcoming-council-meetings. For technical support please contact our administrative staff, email: npfmc.admin@noaa.gov.

Public Comment

Public comment letters will be accepted and should be submitted electronically through the links at https://www.npfmc.org/upcoming-council-meetings. The Council strongly encourages written public comment for this meeting, to avoid any potential for technical difficulties to compromise oral testimony. The written comment period is open from January 14, 2022, to January 28, 2022, and closes at 5 p.m. Alaska Time on January 28th.

Although other non-emergency issues not on the agenda may come before this group for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Authority: 6 U.S.C. 1801 et seq.

Dated: January 10, 2022.
Tracey L. Thompson,
Acting Deputy Director, Office of Sustainable Fisheries, National Marine Fisheries Service.

[FR Doc. 2022-00612 Filed 1-12-22; 8:45 am]

BILLING CODE 3510-22-P